DEPARTMENT OF TRANSPORTATION

Federal Transit Administration

Early Scoping Notice for an Alternatives Analysis of Proposed Transit Improvements in the Eastside Extension Phase II Transit Corridor of Los Angeles, CA

AGENCY: Federal Transit Administration, DOT.

ACTION: Early Scoping Notice.

SUMMARY: The Federal Transit Administration (FTA) and the Los Angeles County Metropolitan Transportation Authority (LACMTA) issue this early scoping notice to advise other agencies and the public that they intend to explore, in the context of the Council on Environmental Quality's early scoping process, alternative means of improving transit capacity and service in the Eastside Extension Phase II Transit Corridor of Los Angeles, California. The early scoping process is part of a planning Alternatives Analysis (AA) required by Title 49 United States Code (U.S.C.) § 5309, that will lead to the selection of the proposed action and alternatives that will be subject to the appropriate environmental process. Early scoping meetings have been planned and are announced below.

The Eastside Extensive Phase II Transit Corridor is east-west oriented and includes all or portions of the cities of Montebello, Pico Rivera, Monterey Park, Industry, Downey, Whittier, Commerce, Rosemead, South El Monte, South San Gabriel, Sante Fe Springs, Bell as well as unincorporated portions of the County of Los Angeles. The study area generally extends from Union Station in downtown Los Angeles, north to the Interstate 10 freeway, east to approximately three miles east of the State Route 605, and south to Interstate 5 freeway. The Alternatives Analysis will study the extension of high capacity transit service from the Metro Gold Line Eastside Extension to approximately 3 miles east of the State Route 605.

The conclusion of the planning Alternatives Analysis is expected to be the selection of a Locally Preferred Alternative (LPA) by the LACMTA and the Southern California Association of Governments, which is the official metropolitan planning organization for Los Angeles. The LPA will then be the “proposed action” that is subject to an appropriate environmental review under the National Environmental Policy Act (NEPA). If the selected LPA would have significant impacts, an environmental impact statement (EIS), combined with a California environmental impact report (EIR) would be initiated with a Notice of Intent in the Federal Register and distribution of a Notice of Preparation (NOP) required under the California Environmental Quality Act (CEQA). Public and agency scoping of the EIS/EIR would be conducted at that time. In particular, the purpose and need for the project, the range of alternatives to be considered in the EIS/EIR, the environmental and community impacts to be evaluated, and the methodologies to be used, would be subject to public and interagency review and comment, in accordance with 23 U.S.C. 139 and CEQA.

DATES: Written comments on the scope of the planning Alternatives Analysis, including the alternatives to be considered, should be sent to LACMTA at the address below by November 30, 2007. See ADDRESS below for the address to which written public comments may be sent. Early scoping meetings to accept public comments on the scope of the planning Alternatives Analysis will be held on the following dates:

• Thursday, November 8, 2007, from 6:30 p.m. to 8:30 p.m. Palm Park, 5703 Palm Avenue, Whittier, CA 90601.

• Saturday, November 10, 2007, from 9 a.m. to 12 p.m. Senior Center at City Park, 115 South Taylor Avenue, Montebello, CA 90640.

• Wednesday, November 14, 2007, from 6:30 p.m. to 8:30 p.m. Potrero Heights Elementary School, 8026 East Hill Drive, Rosemead, CA 91770.

• Thursday, November 15, 2007, from 6:30 p.m. to 8:30 p.m. North Park Middle School/Cafeteria, 4450 Durfee Avenue, Pico Rivera, CA 90660.

The draft purpose and need for the project and the initial set of alternatives proposed for study will be presented at these meetings. The buildings and facilities used for the scoping meetings are accessible to persons with disabilities. Any individual who requires special assistance, such as a sign language interpreter, to participate in a scoping meeting should contact Mr. David Monks, LACMTA at 213 922-7456 or Monksd@metro.net.

Scoping materials will be available at the meetings and are also available on the LACMTA Web site at http://www.metro.net/eastside. Hard copies of the scoping materials are available from Mr. David Monks, LACMTA at 213 922-7456 or Monksd@metro.net.

An interagency scoping meeting will be held on Thursday, November 8, 2007, from 10 a.m. to 12 p.m. at LACMTA, One Gateway Plaza, 3rd Floor Board Overflow Room, Los Angeles, CA 90012. Representatives of Native American tribal governments and of all Federal, State, and local agencies that may have an interest in any aspect of the project will be invited by phone, letter, or e-mail.

ADDRESSES: Written comments on this Early Scoping Notice should be sent to Ms. Kimberly Yu, Project Manager, Los Angeles County Metropolitan Transportation Authority, One Gateway Plaza, Los Angeles, CA 90012, phone 213-922-7910, e-mail yuki@metro.net. The locations of the early scoping meetings are given above under DATES.

FOR FURTHER INFORMATION CONTACT: Mr. Ray Tellis, Team Leader, Los Angeles Metropolitan Office, Federal Transit Administration, 888 South Figueroa Street, Suite 1850, Los Angeles, CA 90017, phone 213-202-3950, e-mail ray.tellis@dot.gov.

SUPPLEMENTARY INFORMATION:

Early Scoping

The FTA and LACMTA invite all interested individuals and organizations, public agencies, and Native American tribes to comment on the scope of the planning Alternatives Analysis, including the purpose and need for transit improvements in the corridor, the alternatives transit modes and alignments to be considered, and the types of impacts to be evaluated. Comments at this time should focus on the purpose and need for transit improvements in the corridor; alternatives that may be less costly or have less environmental impacts while achieving similar transportation objectives; and the identification of any significant social, economic, or environmental issues that should be considered in developing the alternatives.

Purpose and Need for Action

The project purpose is to improve public transit service and mobility in the Eastside Extension Phase II Transit Corridor. The project would provide the study area an improved fixed-guideway east-west transit service from the Metro Gold Line Eastside Extension currently under construction, to cities further east of the City of Los Angeles. Possible eastern extensions from the Metro Gold Line would generally continue east parallel to or along State Route 60, Beverly Boulevard, Olympic Boulevard or Whittier Boulevard. The overall goal of the proposed project is to improve mobility in the Eastside Extension Phase II Transit Corridor by extending the benefits of the existing Metro Gold Line and bus investments beyond the current terminus. Mobility problems and potential improvements for this corridor have been well documented in many studies that are available from Metro's Record's Management Department including numerous Metro Red Line planning studies, Eastside Transit Corridor Studies: Re-Evaluation Major Investment Study (2000), Southern California Association of Governments (SCAG) planning studies, the Metro Rapid Demonstration Project (2000), and in the Southern California Association of Governments Regional Transportation Plan (2004). Additional considerations supporting the project's need include:

• The concentration of activity centers and destinations in the Eastside Extension Phase II Transit Corridor;

• Increasing traffic congestion on the highway network throughout the Eastside Extension Phase II Transit Corridor, which has led to public and political support for a high-capacity transit alternative to the automobile;

• The County General Plan of the County of Los Angeles which is transit-supportive;

• The existing concentration of transit supportive land uses in the Eastside Extension Phase II Transit Corridor;

• The high population and employment densities in the Eastside Extension Phase II Transit Corridor;

• Local redevelopment plans that are highly support of, and dependent on, high capacity transit services in the Eastside Extension Phase II Transit Corridor;

• The existing high ridership levels on bus lines in the Eastside Extension Phase II Transit Corridor;

• Significant transit dependent population in the Eastside Extension Phase II Transit Corridor;

• Forecasts of significant future population and employment growth in the Eastside Extension Phase II Corridor;

• Existing and future travel demand patterns that demonstrate a strong and growing demand for high-capacity transit in the Eastside Extension Phase II Corridor;

• Emerging travel patterns associated with a job-rich study area that has led to significant westbound congestion during the morning rush hours and corresponding eastbound congestion during the evening rush hours; and

• Local policy directed toward travel demand management and transit solutions rather than the expansion of the street and highway network.

Alternatives

The Eastside Extension Phase II Corridor Study proposes to extend transit from the Metro Gold Line Eastside Extension to cities east of Los Angeles. Historically two routes have been previously considered for this extension; to the City of Whittier via Atlantic and Whittier Boulevards and the City of Whittier via Beverly Boulevard, Paramount Boulevard and Whittier Boulevard.

Light rail transit, the transit mode that is currently used in the Metro Gold Line, is being considered. It normally follows an at-grade configuration although underground and aerial configurations may also be considered in some locations. Other transit modes, including Bus Rapid Transit (BRT), high speed trolley and any other reliable, cost-effective forms of fixed guideway transit may also be considered. Proposed station sites (along two alternative alignments) include Beverly/Atlantic, Beverly/Gerhart, Beverly/Garfield, Beverly/Wilcox, Beverly/Montebello, Beverly/4th, Whittier/Gerhart, Whittier/Garfield, Whittier/Wilcox, Whittier/Montebello, Whittier/Rosemead, Whittier/Passons, Whittier/Norwalk, Whittier/Arizona, Whittier/Atlantic, and Beverly/Arizona.

Future No-Build Alternative—The study will consider the transportation and environmental effects if no new major transit investments beyond those that have already been planned are implemented in this corridor. This alternative will include the highway and transit projects in the current Metro Long Range Transportation Plan and the 2030 Southern California Association of Governments Regional Transportation Plan. For purposes of the planning Alternatives Analysis, the major fixed guideway investments under study for the Exposition Transit Corridor Phase 2 and Crenshaw Transit Corridor projects would not be included in the Future No-Build Alternative. The completion of the Metro Rapid Bus Program would be included as well as possible additional feeder bus networks to serve the region's major activity centers.

Transportation System Management Alternative (TSM)—The study will consider the effects of modest improvements in the highway and transit systems beyond those in the Future No-Build Alternative. The TSM Alternative would evaluate low-cost enhancements to the Future No-Build Alternative and would emphasize transportation system upgrades, such as intersection improvements, minor road widening, traffic engineering actions, bus route restructuring, shortened bus headways, expanded use of articulated buses, reserved bus lanes, expanded park-and-ride facilities, express and limited-stop service, signalization improvements, and timed-transfer operations.

In addition to the alternatives described above, other reasonable alternatives identified through the early scoping process will be considered for potential inclusion in the planning Alternatives Analysis. Alternative modes, vertical or horizontal alignments, or station locations may emerge from the early scoping process.

FTA Procedures

Early scoping is an optional element of the National Environmental Policy Act (NEPA) process that is particularly useful in situations where, as here, a proposed action (the locally preferred alternative) has not been identified and alternative modes and major alignment variations are under consideration in a broadly-defined corridor. While NEPA scoping normally follows issuance of a notice of intent, which describes the proposed action, it “may be initiated earlier, as long as there is appropriate public notice and enough information available on the proposal so that the public and relevant agencies can participate effectively.” See the Council on Environmental Quality's ”“Forty Most Asked Questions Concerning CEQ's National Environmental Policy Act Regulations,” 46FR 18026, 18030 (1981). In this case, the available information is more than adequate to permit the public and relevant agencies to participate effectively in early scoping and the planning Alternatives Analysis.

LACMTA may seek New Starts funding for the proposed project under 49 U.S.C. 5309 and will, therefore, be subject to New Starts regulation (49 Code of Federal Regulations [CFR] Part 611). The New Starts regulation requires a planning Alternatives Analysis that leads to the selection of a Locally Preferred Alternative by LACMTA and the inclusion of the locally preferred alternative in the long-range transportation plan adopted by the Southern California Association of Governments. The planning Alternatives Analysis will examine alignments, technologies, station locations, costs, funding, ridership, economic development, land use, engineering feasibility, and environmental factors in the corridor. The New Starts regulation also requires the submission of certain project-justification information in support of a request to initiate preliminary engineering. After the identification of a proposed action at the conclusion of the planning Alternatives Analysis, if preparation of an environmental impact statement is warranted, a Notice of Intent (NOI) will be published in the Federal Register and the scoping of the EIS/EIR will be continued by soliciting and considering comments on the results of the planning Alternatives Analysis, the purpose and need for the proposed action, the range of alternatives to be considered in the EIS/EIR, and the potentially significant environmental and community impacts to be evaluated in the EIS/EIR.

Concurrent will publication of the NOI pursuant to NEPA, an NOP will be distributed pursuant to CEQA. In conjunction with this final scoping of the EIS/EIR and consistent with provisions of 23 U.S.C. 139 and CEQA, invitations will be extended to other Federal and non-Federal agencies that may have an interest in this matter to be participating agencies. A plan for coordinating public and agency participation in the environmental review process and for commenting on the issues under consideration at various milestones of the process will be prepared and posted on the LACMTA Web site at http://www.metro.net/eastsidephase2.

Issued on: October 25, 2007.
Leslie T. Rogers,
Regional Administrator, Region IX, Federal Transit Administration.

[FR Doc. 07-5406 Filed 10-30-07; 8:45 am]

BILLING CODE 4910-57-M